ENVIRONMENTAL PROTECTION AGENCY

40 CFR Parts 52 and 81

[EPA-R05-OAR-2016-0137; FRL-9964-63-Region 5]

Air Plan Approval; Indiana; Redesignation of the Muncie Area to Attainment of the 2008 Lead Standard; Withdrawal of Direct Final Rule

AGENCY: Environmental Protection Agency (EPA).

ACTION: Withdrawal of direct final rule.

SUMMARY: Due to the receipt of an adverse comment, the Environmental Protection Agency (EPA) is withdrawing the May 30, 2017, direct final rule approving the redesignation of the Muncie nonattainment area to attainment for the 2008 national ambient air quality standards (NAAQS) for lead, the state's plan for maintaining the 2008 lead NAAQS through 2030 for the area, and the 2013 attainment year emissions inventory for the area.

DATES: The direct final rule published at 82 FR 24553 on May 30, 2017, is withdrawn effective July 10, 2017.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov.

SUPPLEMENTARY INFORMATION: In the direct final rule, EPA stated that if adverse comments were submitted by June 29, 2017, the rule would be withdrawn and not take effect. EPA received an adverse comment prior to the close of the comment period and, therefore, is withdrawing the direct final rule. EPA will address the comment in a subsequent final action based upon the proposed action also published on May 30, 2017. EPA will not institute a second comment period on this action.

List of Subjects

40 CFR Part 52

Environmental protection, Air pollution control, Incorporation by reference, Intergovernmental relations, Lead, Reporting and recordkeeping requirements.

40 CFR Part 81

Environmental protection, Air pollution control, National parks, Wilderness areas.

Authority: 42 U.S.C. 7401 et seq.

Dated: June 20, 2017.
Robert A. Kaplan,
Acting Regional Administrator, Region 5.

PART 52—APPROVAL AND PROMULGATION OF IMPLEMENTATION PLANS

Accordingly, the amendments to 40 CFR 52.770 and 40 CFR 52.797 published in the Federal Register on May 30, 2017 (82 FR 24553) on page 24559 are withdrawn effective July 10, 2017.

PART 81—DESIGNATION OF AREAS FOR AIR QUALITY PLANNING PURPOSES

Accordingly, the amendment to 40 CFR 81.315 published in the Federal Register on May 30, 2017 (82 FR 24553) on page 24559 is withdrawn effective July 10, 2017.

[FR Doc. 2017-14316 Filed 7-7-17; 8:45 am]

BILLING CODE 6560-50-P